DEPARTMENT OF TRANSPORTATION

Federal Highway Administration

[Docket No. FHWA-2021-0016]

Agency Information Collection Activities: Request for Comments for a New Information Collection

AGENCY: Federal Highway Administration (FHWA), Transportation (DOT).

ACTION: Notice and request for comments.

SUMMARY: The FHWA invites public comments about our intention to request the Office of Management and Budget's (OMB) approval for a new information collection, which is summarized below under Supplementary Information. We are required to publish this notice in the Federal Register by the Paperwork Reduction Act of 1995.

DATES: Please submit comments by December 17, 2021.

ADDRESSES: You may submit comments identified by DOT Docket ID Number 2021-0016 by any of the following methods:

Web site: For access to the docket to read background documents or comments received go to the Federal eRulemaking Portal: Go to http://www.regulations.gov. Follow the online instructions for submitting comments.

Fax: 1-202-493-2251.

Mail: Docket Management Facility, U.S. Department of Transportation, West Building Ground Floor, Room W12-140, 1200 New Jersey Avenue SE., Washington, DC 20590-0001.

Hand Delivery or Courier: U.S. Department of Transportation, West Building Ground Floor, Room W12-140, 1200 New Jersey Avenue SE, Washington, DC 20590, between 9 a.m. and 5 p.m. ET, Monday through Friday, except Federal holidays.

FOR FURTHER INFORMATION CONTACT: Eddie Curtis, Office of Operations, HOP, (404) 780-0927 Federal Highway Administration, 1200 New Jersey Avenue SE., Washington, DC 20590. Office hours are from 8:00 a.m. to 4:30 p.m. ET, Monday through Friday, except Federal holidays.

SUPPLEMENTARY INFORMATION:

Title: Traffic Signal Change and Clearance Interval Pooled Fund Study.

Background: The timing of yellow change and red clearance intervals are central to the safe transfer of right-of-way at signalized intersections. The current edition of the Manual of Uniform Traffic Control Devices for Streets and Highways[1] (MUTCD) requires a yellow change interval to warn traffic of an impending change in right-of-way assignment at intersections with traffic control signals and requires that the duration of the yellow change interval be determined using engineering practices. While the MUTCD does not require a red clearance interval, it does require that the duration of the red clearance interval also be determined using engineering practices if such an interval is used. The MUTCD refers to the Institute of Transportation Engineers' (ITE) Manual of Traffic Signal Design or ITE's Traffic Control Devices Handbook as examples of engineering practices but does not require a specific engineering practice. Agencies have the flexibility to use these referenced documents, other engineering research or documents, or their own policies and procedures that are developed based on engineering practices. In March 2020, ITE published Guidelines for Determining Traffic Signal Change and Clearance Intervals, A Recommended Practice of the Institute of Transportation Engineers. A Transportation Pooled Fund Study has been established to study the implications of the published guidelines, evaluate the state of the practice and to conduct research to address knowledge gaps that contribute to uncertainty and a lack in uniformity in the documentation of methods applied to develop change and clearance intervals. There are no explicit requirements for State DOTs or local agencies responsible for the design and implementation of traffic signal change and clearance intervals to demonstrate how their transportation program develops and applies traffic signal change and clearance intervals. It is essential for FHWA to examine the methods and practices involved in the development of traffic signal change and clearance to establish the state of the practice, to aid in the identification of research gaps, and to support implementation of documentation to harmonize practices nationally.

Respondents: Approximately 410 participants, which would allow for up 2 participants from each of the 50 State Departments of Transportation (DOT), plus the District of Columbia and Puerto Rico, and up to 4 responses from within the top 75 metropolitan areas.

Frequency: One-time collection.

Estimated Average Burden per Response: Approximately 15 minutes.

Estimated Total Annual Burden Hours: Approximately 103 hours for a one-time collection.

Public Comments Invited: You are asked to comment on any aspect of this information collection, including: (1) Ways for the FHWA to enhance the quality, usefulness, and clarity of the collected information; and (2) ways that the burden could be minimized, without reducing the quality of the collected information. The agency will summarize and/or include your comments in the request for OMB's clearance of this information collection.

Authority: The Paperwork Reduction Act of 1995; 44 U.S.C. Chapter 35, as amended; and 49 CFR 1.48.

Michael Howell,
Information Collection Officer.

[FR Doc. 2021-22640 Filed 10-15-21; 8:45 am]

BILLING CODE 4910-22-P